DEPARTMENT OF COMMERCE

National Oceanic and Atmospheric Administration

RIN: 0648-XK84

New England Fishery Management Council; Public Meeting; Revision

AGENCY: National Marine Fisheries Service (NMFS), National Oceanic and Atmospheric Administration (NOAA), Commerce.

ACTION: Notice of rescheduling of a public meeting.

SUMMARY: The New England Fishery Management Council (Council) is scheduling a public meeting of its Research Steering Committee (Committee), in October, 2008, to consider actions affecting New England fisheries in the exclusive economic zone (EEZ). Recommendations from this group will be brought to the full Council for formal consideration and action, if appropriate.

DATES: The meeting scheduled for Thursday, October 16, 2008 has been cancelled and rescheduled for Thursday, October 30, 2008 at 9:30 a.m.

ADDRESSES: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: This meeting was originally scheduled for Thursday, October 16, 2008. The original notice published in the Federal Register on Thursday, October 2, 2008 (73 FR 57336).

The Council's Research Steering Committee (Committee) will address a range of issues including a briefing on the status of NMFS' Cooperative Research Program activities and funding. The Committee also will review preliminary work of the NEFMC's 5-year research priorities. The Committee will re-examine, and possibly revise, the evaluation criteria for cooperative research priorities subject to review by the Committee as well as review a small number of cooperative research project final reports. The Committee will also discuss the use of a workshop format to conduct future Committee management reviews. Finally, the Committee will discuss outstanding issues related to the Council's research set-aside programs if time allows. The Committee may consider other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 6, 2008.
Tracey L. Thompson,
Acting Director, Office of Sustainable Fisheries, National Marine Fisheries Service.

[FR Doc. E8-23941 Filed 10-8-08; 8:45 am]

BILLING CODE 3510-22-S